DEPARTMENT OF COMMERCE

National Oceanic and Atmospheric Administration

RIN 0648-XF884

Pacific Fishery Management Council; Public Meeting (Webinar)

AGENCY: National Marine Fisheries Service (NMFS), National Oceanic and Atmospheric Administration (NOAA), Commerce.

ACTION: Notice of public meeting (webinar).

SUMMARY: The Pacific Fishery Management Council's (Pacific Council) will host the Area 2A Pacific Halibut Managers Coordination Meeting via webinar. The meeting is open to the public.

DATES: The webinar meeting will be held on Wednesday, January 3, 2018, from 10 a.m. until business for the day has been completed.

ADDRESSES: The meeting will be held via webinar. A public listening station is available at the Pacific Council office (address below). To attend the webinar (1) join the meeting by visiting this link https://www.gotomeeting.com/webinar and selecting `join a webinar' in the upper right corner (2) enter the Webinar ID: 793-330-227, and (3) enter your name and email address (required). After logging in to the webinar, please (1) dial this TOLL number 1 (213) 929-4232 (not a toll-free number), (2) enter the attendee phone audio access code 676-925-992, and (3) then enter your audio phone pin (shown after joining the webinar). NOTE: We have disabled Mic/Speakers as an option and require all participants to use a telephone or cell phone to participate. Technical Information and system requirements: PC-based attendees are required to use Windows® 7, Vista, or XP; Mac®-based attendees are required to use Mac OS® X 10.5 or newer; Mobile attendees are required to use iPhone®, iPad®, Android™ phone or Android tablet (See https://www.gotomeeting.com/meeting/ipad-iphone-android-apps). You may send an email to Mr. Kris Kleinschmidt at Kris.Kleinschmidt@noaa.gov or contact him at (503) 820-2280, extension 411 for technical assistance. A public listening station will also be available at the Pacific Council office.

Council address: Pacific Fishery Management Council, 7700 NE Ambassador Place, Suite 101, Portland, OR 97220.

FOR FURTHER INFORMATION CONTACT: Ms. Robin Ehlke, Pacific Council; telephone: (503) 820-2410.

SUPPLEMENTARY INFORMATION: The primary purpose of the Area 2A Pacific halibut manager's meeting is to prepare and develop recommendations for the January 22-26, 2018, International Pacific Halibut Commission's (IPHC) annual meeting in Portland, Oregon. Recommendations generated from the meeting will be communicated to the IPHC by the Pacific Council's representative, Mr. Phil Anderson. Attendees may also address other topics relating to Pacific halibut management. No management actions will be decided by the attendees. The meeting will be open to the public, and the agenda, which will be posted on the PFMC website prior to the meeting, will provide for a public comment period.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: December 11, 2017.
Jeffrey N. Lonergan,
Acting Deputy Director, Office of Sustainable Fisheries, National Marine Fisheries Service.

[FR Doc. 2017-26975 Filed 12-13-17; 8:45 am]

BILLING CODE 3510-22-P